DEPARTMENT OF THE TREASURY

Internal Revenue Service

Advisory Council to the Internal Revenue Service; Meeting

AGENCY: Internal Revenue Service (IRS), Treasury.

ACTION: Notice.

SUMMARY: The Internal Revenue Service Advisory Council (IRSAC) will hold a public meeting on Wednesday, November 15, 2006.

FOR FURTHER INFORMATION CONTACT: Ms. Jacqueline Tilghman, National Public Liaison, CL:NPL, PE 3E1, 1111 Constitution Avenue, NW., Washington, DC 20224. Telephone: 202-283-8878 (not a toll-free number). E-mail address: *public_liaison@irs.gov.

SUPPLEMENTARY INFORMATION: Notice is hereby given pursuant to section 10(a)(2) of the Federal Advisory Committee Act, 5 U.S.C. App. (1988), a public meeting of the IRSAC will be held on Wednesday, November 15, 2006, from 9:00 a.m. to 1:00 p.m. in Congressional Room A of the Hyatt Regency Washington on Capitol Hill, 400 New Jersey Avenue, NW., Washington, DC 20001. Issues to be discussed include: Hiring Initiatives, Burden Reduction, Abusive Tax Shelter Enforcement Strategies, Corporate E-File Requirement, Earned Income Tax Credit (EITC), Volunteer Income Tax Assistance (VITA), Tax Gap and the Cash Economy, Customer Satisfaction, Improving the Performance of Tax Preparers, and Examination Recruit Hire Curriculum Redesign. Reports from the three IRSAC sub-groups, Large and Mid-size Business, Small Business/Self-Employed, and Wage & Investment, will also be presented and discussed. Last minute agenda changes may preclude advance notice. The meeting room accommodates approximately 80 people, IRSAC members and Internal Revenue Service officials inclusive. Due to limited seating, please call Jacqueline Tilghman to confirm your attendance. Ms. Tilghman can be reached at 202-283-8878. Attendees are encouraged to arrive at least 30 minutes before the meeting begins. Should you wish the IRSAC to consider a written statement, please call 202-283-8878, or write to: Internal Revenue Service, Office of National Public Liaison, CL:NPL:PE 3E1, 1111 Constitution Avenue, NW., Washington, DC 20224 or e-mail: *public_liaison@irs.gov.

Dated: October 16, 2006.
J. Chris Neighbor,
Designated Federal Official, Branch Chief, Liaison/Tax Forum Branch.

[FR Doc. E6-17906 Filed 10-25-06; 8:45 am]

BILLING CODE 4830-01-P